ENVIRONMENTAL PROTECTION AGENCY

[ER-FRL-6634-4]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-COE-H35005-KS Rating EO2, KS-10 Highway (commonly known as South Lawrence Trafficway) Relocation, Issuance or Denial of US Army COE Section 404 Permit Request, Lawrence City, Douglas County, KS.

Summary: EPA expressed environmental objections to the preferred alternative based upon possible impacts to a National Natural landmark (Baker Wetlands), and the absence of a Clean Water Act 404(b)(1) evaluation. EPA recommended further analysis and coordination to discern Environmental Justice impacts and to ensure compliance with Executive Order 13007 (Indian Sacred Sites).

ERP No. D-COE-K39074-CA Rating EC2, Bolinas Lagoon Ecosystem Restoration, Removal of up to 1.5 Million Cubic Yards of Sediment from the bottom of the Lagoon to Allow Restoration of Tidal Movement and Eventual Restoration of Tidal Habitat, Marin County, CA.

Summary: EPA raised environmental concerns due to projected impacts to jurisdictional wetlands associated with the project's implementation, and a lack of analysis regarding efforts to avoid and minimize, as fully as practicable, such impacts. Although the DEIS proposes to dispose approximately 1.5 million cubic yards of dredged material at an EPA-designated ocean dredged material disposal site, the DEIS does not address alternate options to potentially reuse the dredged material or consistency with applicable Federal requirements.

ERP No. D-NRS-H34029-MO Rating LO, Little Otter Creek Watershed Plan, Installation of One Multi-Purpose Reservoir and Development of Basic Facilities for Recreational Use, Implementation, Caldwell County, MO.

Summary: EPA expressed a lack of objections to the proposed project. It was recommended that the FEIS include more information on wetland mitigation, farm acquisitions and available conservation incentive programs.

ERP No. D-SAW-K64021-CA Rating EC2, Natomas Basin Habitat Conservation Plan, Issuance of Incidental Take Permit and the Adoption of an Implementing Agreement or Agreements, Natomas Basin, Sacramento and Sutter Counties, CA.

Summary: EPA expressed environmental concerns regarding the scientific support for the mitigation ratio, the feasibility of implementing the HCP due to the cost and availability of potential reserve lands, the cumulative effects analysis, and the environmental consequences analysis. EPA urged adoption of more frequent HCP review periods or a shorter permit period and greater consideration of measures to avoid or minimize incidental take.

ERP No. D-SAW-K70008-AZ Rating EC2, Roosevelt Habitat Conservation Plan, Issuance of an Incidental Take Permit to Allow Continued Operation of Roosevelt Dam and Lake, Implementation, Gila and Maricopa Counties, AZ.

Summary: EPA expressed environmental concerns regarding the feasibility of acquiring sufficient off-site mitigation habitat, critical water rights to support this habitat, and the evaluation of cumulative impacts. EPA recommended aggressive implementation of water use efficiencies to maximize beneficial use of project water and to continue to pursue other water and power supply options in order to increase the reliability and flexibility of their water and power supply management plans.

ERP No. DA-COE-G39002-00 Rating LO, Red River Chloride Control Project, Authorization to Reduce the Natural Occurring Levels of Chloride in the Wichita River Only Portion, North, Middle and South Forks, Wichita River and Red River, Implementation, Tulsa District, Wichita County, TX.

Summary: EPA had a lack of objections to the proposed project.

ERP No. DS-COE-E30038-FL Rating EC2, Phipps Ocean Park Beach Restoration Project to Provide Shore Protection for the Shoreline surrounding Phipps Ocean Park within the Town of Palm Beach, Regulatory Authorization and U.S. Army COE Section 10 and 404 Permits Issuance, Palm Beach County, FL.

Summary: EPA has environmental concerns regarding the direct and indirect consequences of this proposal which will require additional information to determine if the unavoidable losses will be appropriately mitigated.

Final EISs

ERP No. F-COE-L39058-00, McNary Reservoir and Lower Snake River Reservoirs, Maintenance of the Authorized Navigation Channel and Dredged Material Management Plan (DMMP), Walla Walla District, Lower Snake River and Columbia River, ID and WA.

Summary: EPA continues to have significant environmental objections with the lack of a sediment reduction strategy, the potential effects from the proposed creation of salmonid habitat, the lack of an adequate monitoring plan, and the lack of clarity related to the role of the Local Sediment Management Group.

ERP No. F-FAA-B51017-MA, Logan Airside Improvements Planning Project (EOEA #10458), Construction and Operation of a New Unidirectional Runway 14/32, Centerfield Taxiway and Additional Taxiway Improvements and New Information Providing Clarification of the Delay Problems, Boston International Airport, Funding, Airport Layout Plan Approval and NPDES Permit, Boston, MA.

Summary: EPA expressed environmental concerns about the enforcement/monitoring of the runway 14/32 wind restriction, the establishment of an appropriate wind threshold for the restriction, demand management/peak period pricing, Environmental Justice, baseline and growth projections, and air quality issues.

ERP No. F-FHW-G40166-LA, I-49 Connector, Construction from Evangeline Thruway, US 90 and US 197 in Urbanized Lafayette, Funding, US Army COE Section 10 and 404 Permits Issuance, Parish of Lafayette, LA.

Summary: EPA has no objections to the selection of the preferred alignment and offered no further comments on the Final EIS.

ERP No. F-FRC-B03010-00, Islander East Pipeline Project, Interstate Natural Gas Pipeline Facilities Construction and Operation to provide 285,000 dekatherms per day (Dth/d) of Natural Gas to Energy Markets in Connecticut, Long Island and New York City, New Haven, CT and Suffolk County, NY.

Summary: EPA expressed environmental concerns that the FEIS lacks information to understand impacts to wetlands and waters of the US; disagreed with the conclusion that project construction and operation will result in limited adverse environmental impacts; expressed concerns about marine impacts and encouraged close coordination between FERC and the applicant with land trust/conservation organizations along the proposed pipeline route.

ERP No. F-FRC-B05192-ME, Presumpscot River Projects, Relicensing of Five Hydroelectric Projects for Construction and Operation, Dundee Project (FERC No. 2942); Gambo Project (FERC No. 2931); Little Falls Project (FERC No. 2932); Mallison Falls Project (FERC No. 2941) and Saccarappa Project (FERC No. 2897), Cumberland County, ME.

Summary: EPA expressed outstanding environmental concerns about dam removal effects on water quality and recommended that higher flows be considered at the Dundee and Mallison Falls dams. EPA also continued to urge consistency with the Casco Bay Estuary Project.

ERP No. F-FRC-L03011-WA, Georgia Strait Crossing Pipeline (LP) Project, Construction and Operation to Transport Natural Gas from the Canadian Border near Sumas, WA to US/Canada Border at Boundary Pass in the Strait of Georgia, Docket Nos. CP01-176-000 and CP01-179-000, Whatcom and San Juan Counties, WA.

Summary: EPA continues to have significant environmental objections with the proposal given the lack of evaluation of reasonable alternatives, the lack of integration with the evaluation and decision making processes being conducted in Canada for the Canadian portion of the project, and the high risks associated with seismic hazards.

ERP No. F-FRC-L05220-WA, Warm Creek (No. 10865) and Clearwater Creek (No. 11485) Hydroelectric Project, Issuance of License for the Construction and Operation located in the Middle Fork Nooksack River (MFNR) Basin, WA.

Summary: EPA raised environmental objections regarding the proposed projects, including the potential negative impacts to aquatic and terrestrial endangered species, and adverse effects to old growth forest, water quality and cultural and spiritual resources of affected Tribes. EPA recommended that the FERC select the No Action alternative.

ERP No. F-FRC-L05222-ID, Four Mid-Snake River Hydroelectric Projects, Applications for New License for the Existing Projects: Shoshone Falls-FERC No. 2778, Upper Salmon Falls-FERC No. 2777, Lower Salmon Falls-FERC No. 2061 and Bliss-FERC No. 1975, Snake River, ID.

Summary: EPA expressed environmental objections that the final EIS did not identify a preferred alternative. EPA continues to have objections to the No Action alternative, the Applicant Proposed Project, and the Seasonal Run-of-River alternative as they would result in continued negative effects to native fish, aquatic invertebrates, and riparian and wetland habitats. EPA recommended licensing and implementing the Year-Round Run-of-River alternative.

ERP No. F-IBR-J39029-SD, Angostura Unit—(Dam, Reservoir and Irrigation Facilities) Renewal of a Long-Term Water Service Contract, Cheyenne River Basin, Pine Ridge Reservation, Bismarck County, SD.

Summary: No formal comment letter was sent to the preparing agency.

ERP No. F-NRS-G36154-OK, Rehabilitation of Aging Flood Control Dams in Oklahoma, Authorization and Funding, OK.

Summary: EPA has no objection to the proposed action since the document adequately responded to comments offered on the Draft EIS.

ERP No. FA-COE-H36012-MO, St. Johns Bayou and New Madrid Floodway Project, Channel Enlargement and Improvement, Flood Control and National Economic Development (NED), New Madrid, Mississippi and Scott Counties, MO.

Summary: EPA continues to have environmental objections to the project and believes that the recommended plan (alternative 3-1.B) raises substantive environmental issues.

ERP No. FS-COE-F36163-00, Upper Des Plaines River, Flood Damage Reduction at Site 37, Construction of a Concrete Floodwall along Des Plaines River, Milwaukee Avenue, Willow Road and Palatine Road in Mt. Prospect, Cook County, IL.

Summary: EPA had no objections to the proposed project and commended the Corps on their wetland mitigation proposal.

Dated: October 22, 2002.
Joseph C. Montgomery,
Director, NEPA Compliance Division, Office of Federal Activities.

[FR Doc. 02-27264 Filed 10-24-02; 8:45 am]

BILLING CODE 6560-50-P